ENVIRONMENTAL PROTECTION AGENCY

[EPA-HQ-ORD-2009-0XXX; FRL-8976-9]

Agency Information Collection Activities; Proposed Collection; Comment Request; Analysis of Archived Environmental Samples From the American Healthy Homes Survey (New); EPA ICR No. XXXX.XX, OMB Control No. 20XX-XXXX

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before January 4, 2010.

ADDRESSES: Submit your comments, identified by Docket ID No. EPA-HQ-ORD-2009-0XXX, by one of the following methods:

• http://www.regulations.gov: Follow the on-line instructions for submitting comments.

• E-mail: ORD.Docket@epa.gov.

• Fax: 202-566-9744.

• Mail: Docket ID No. EPA-HQ-ORD-2009-0XXX, Office of Research and Development (ORD) Docket, Environmental Protection Agency, Mail Code: 28221T, 1200 Pennsylvania Ave., NW., Washington, DC 20460.

• Hand Delivery: EPA Headquarters Docket Center, EPA West Building, Room 3334, 1301 Constitution Ave., NW., Washington, DC. Such deliveries are only accepted during the Docket's normal hours of operation, and special arrangements should be made for deliveries of boxed information.

Instructions: Direct your comments to Docket ID No. EPA-HQ-ORD-2009-0XXX. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov .gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Karen Bradham, National Exposure Research Laboratory, Environmental Protection Agency, Mail Code D205-05, 109 T.W. Alexander Dr., Research Triangle Park, NC 27711; telephone number: (919) 541-9414; fax number: (919) 541-3527; e-mail address: Bradham.Karen@epa.gov.

SUPPLEMENTARY INFORMATION:

How Can I Access the Docket and/or Submit Comments?

EPA has established a public docket for this ICR under Docket ID No. EPA-HQ-ORD-2009-0XXX, which is available for online viewing at http://www.regulations.gov, or in person viewing at the Office of Research and Development Docket in the EPA Docket Center (EPA/DC), EPA West, Room 3334, 1301 Constitution Ave., NW, Washington, DC. The EPA/DC Public Reading Room is open from 8:30 a.m. to 4:30 p.m., Monday through Friday, excluding legal holidays. The telephone number for the Reading Room is 202-566-1744, and the telephone number for the ORD Docket is (202) 566-1752.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Title: Analysis of Archived Environmental Samples from the American Healthy Homes Survey (New).

ICR numbers: EPA ICR No. [XXXX.XX], OMB Control No. 20XX-XXXX.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

What Information Collection Activity or ICR Does This Apply to?

Information from respondents was collected during the field collection portion of American Healthy Homes Survey. There is no additional response needed from the respondents or cost burden to respondents resulting from the collection of information because the samples have already been collected.

The proposed analyses described in the ICR will provide EPA with nationally representative data characterizing perfluorinated chemicals (PFCs), polybrominated diphenyl ethers (PBDEs), polychlorinated biphenyls (PCBs), phthalates, and pesticide concentrations currently found in and around U.S. residences. Studies in the scientific literature have reported the presence of these compounds or their degradation products in environmental samples and in human biological samples. However, measurement data for these classes of compounds in U.S. residential media are insufficient in quantity and of variable quality, limiting their usefulness for understanding the sources and pathways of exposure in the general population and developing risk reduction strategies. Analysis of archived environmental samples collected previously in the American Healthy Homes Survey (AHHS) provides an efficient, resource-maximizing approach for obtaining information on these chemicals in and around residential environments.

Perfluorinated compounds (PFCs) are man-made chemicals resistant to chemical, biological, and thermal degradation. They are used as stain-resistant coatings, surfactants, lubricants, fire-fighting foams, and metal-plating mist suppressants. Animal toxicity studies have demonstrated reproductive, developmental, and immune effects. Despite a growing body of literature demonstrating the widespread presence of these compounds in wildlife, environmental samples, and human biological specimens, data on environmental concentrations in indoor environments in the U.S. are sparse, and the pathways of human exposure remain largely unknown.

Polybrominated diphenyl ethers (PBDEs) are brominated chemicals used as fire retardants. Three commercially produced mixtures of PBDEs (penta-, octa-, and deca-BDE) are used in the manufacture of consumer products, primarily blended into plastics, electronics, polyurethane upholstery foams, and textiles. Growing evidence of environmental persistence and bioaccumulation has led to recent changes in production of the penta- and octa- PBDEs. Nonetheless, human exposures to all previously used mixtures are expected to continue during the coming decades as PBDEs are slowly released into the surrounding environment. Animal toxicity testing suggests that PBDEs of lower bromination disrupt thyroid hormones and cause neurobehavioral deficits and that deca-PBDE is a possible carcinogen. Due to the concerns related to ubiquitous distribution of these chemicals, their persistence, rising body burdens, potential for human health effects, elevated risks to children, and increasing industrial demand, the EPA needs representative data on concentrations of PBDEs in house dust in residential settings across the U.S.

Phthalates are used in the manufacture of a wide range of industrial and household consumer products to prolong durability and increase the flexibility of plastics and as chemical stabilizers for other materials. Animal data suggest a broad spectrum of potential health outcomes including developmental toxicity, endocrine disruption, and carcinogenicity. However, the characterization of human exposure to phthalates is limited and the National Toxicology Program's Center for the Evaluation of the Risks to Human Reproduction has concluded that more data regarding the potential for human exposure are needed.

Polychlorinated biphenyls (PCBs) are man-made mixtures of chemicals, which have chemical properties that make them resistant to chemical, biological, and thermal degradation. Data on environmental concentrations show that indoor air exposures to PCBs are more significant than outdoor exposures. Sources of PCBs in an indoor environment include PCB-containing caulk, floor finishes, old electronic products, and fluorescent lighting. PCBs tend to bioaccumulate, leading to dietary exposures through fish, meat, dairy and processed foods. Dietary exposure is considered the major source of exposure but with a steady decrease in bioaccumulation, inhalation and indirect ingestion become an increasingly important route of exposure to children. Results from the AHHS will provide high quality baseline distributional data describing real-world concentrations of PCBs in U.S. residences, allowing EPA to better understand their presence and variability in the home environment.

Pesticides are needed to control insects and other pests on crops and in both indoor and outdoor environments. The potential health effects of pesticides vary by type but may include developmental neurotoxicity and endocrine disruption. Children are uniquely vulnerable to pesticide exposures given their hand-to-mouth behaviors, floor play, and developing nervous system. The Food Quality Protection Act of 1996 requires EPA to consider aggregate risks (exposures through all routes and pathways). Information on potential exposures to these chemicals through dust- and soil-related pathways will supplement existing AHHS surface wipe results, providing a more complete assessment of children's exposures to pesticides in their homes.

This proposed analysis will be used to develop a nationally representative database to assess current status and future trends, investigate regional variability, evaluate relationships between indoor and outdoor concentrations, characterize exposure routes and pathways, and evaluate suspected occupant- and housing-related determinants of exposure. The real-world data will be particularly useful for developing, evaluating, and improving ORD's modeling tools for estimating, classifying, and predicting human exposure. These data will be available throughout the Agency to refine risk assessments and enhance the Agency's risk assessment/management strategies.

Burden Statement: The annual public reporting and recordkeeping burden for this collection of information is estimated to average 0 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Members of Affected Public | 0
Total Burden Estimate | 0
Frequency of respondents | 0
Hours per responses | 0
Burden response | 0
Respondents | 0
Total Estimated Burden Hours | 0

There is no additional time or costs to respondents needed for additional analyses of the environmental samples because these samples have already been collected.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: October 26, 2009.
Jewel F. Morris,
Deputy Director, National Exposure Research Laboratory.

[FR Doc. E9-26414 Filed 11-2-09; 8:45 am]

BILLING CODE 6560-50-P